DEPARTMENT OF LABOR

Employment and Training Administration

Proposed Information Collection Request for the Unemployment Insurance (UI) State Quality Service Plan (SQSP); Comment Request

AGENCY: Employment and Training Administration, Department of Labor.

ACTION: Notice.

SUMMARY: The Department of Labor, as part of its continuing effort to reduce paperwork and respondent burden conducts a preclearance consultation program to provide the general public and Federal agencies with an opportunity to comment on proposed and/or continuing collections of information in accordance with a provision of the Paperwork Reduction Act of 1995 at 44 U.S.C. 3506(c)(2)(A). This program helps to ensure that requested data can be provided in the desired format, reporting burden (time and financial resources) is minimized, collection instruments are clearly understood, and the impact of collection requirements on respondents can be properly assessed. Currently, the Employment and Training Administration (ETA) is soliciting comments concerning the proposed extension of the State Quality Service Plan (SQSP).

Guidelines for completion and submittal of the SQSP are contained in ETA Handbook 336, 18th Edition. Fiscal year-specific information such as DOL's strategic goals and program areas that warrant special attention will be provided in an advisory that will initiate the planning process each year. The requirements of the reporting and data collection process itself remain unchanged from year to year.

Copies of the SQSP Handbook may be obtained by contacting the addressee below. The Handbook is also available electronically at http://www.workforcesecurity.doleta.gov.

A copy of the proposed information collection request (ICR) can be obtained by contacting the office listed below in the addressee section of this notice or by accessing: http://www.doleta.gov/OMBCN/OMBControlNumber.cfm.

DATES: Submit comments to the office listed in the addressee section below on or before June 2, 2008.

ADDRESSES: Submit comments to Delores A. Mackall, Office of Workforce Security, Employment and Training Administration, U.S. Department of Labor, Room S-4231, 200 Constitution Avenue, NW., Washington, DC 20210; telephone: 202-693-3183 (this is not a toll-free number), fax: 202-693-3975 or by e-mail: mackall.delores@dol.gov.

SUPPLEMENTARY INFORMATION: I. Background: As part of UI Performs, a comprehensive performance management system implemented in 1995 for the UI program, SQSP is the principal vehicle that state UI agencies use to plan, record and manage program improvement efforts as they strive for excellence in service. The SQSP which serves as the State Plan for the UI program is also the grant agreement. The statutory basis for the SQSP is Title III, section 302 of the Social Security Act, which authorizes the Secretary of Labor to provide funds to administer the UI programs, and sections 303(a)(8) and (9) which govern the expenditures of those funds. The SQSP represents an approach to tie program performance with the budget and planning process.

II. Desired Focus of Comments: Currently, the Department of Labor is soliciting comments concerning the proposed extension collection of the UI SQSP. The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques, or other forms of information technology, e.g., permitting electronic submission of responses.

III. Current Actions: ETA proposes to extend this clearance with no change in burden hours. States will describe in a single narrative: Performance related to the Government Performance Results Act (GPRA) goals; results of any customer satisfaction surveys (optional), and actions planned to correct deficiencies in program performance, reporting, Benefits Accuracy Measurement (BAM), and the Tax Performance System (TPS). Actions planned to correct deficiencies for Secretary Standards, Core Measures, and the Data Validation (DV) program are expected to be addressed in corrective action plans. States are requested to submit the SQSP and the required signature page electronically.

Type of Review: Extension, without change.

Agency: Employment and Training Administration.

Title: Unemployment Insurance State Quality Service Plan (SQSP).

OMB Number: 1205-0132.

Affected Public: State Workforce Agencies (SWAs).

Total Respondents: 53.

Frequency: Annually.

Average Time per Response: 3.14 hours.

Number of Annual Responses: 583.

Estimated Total Burden Hours: 1829 hours.

Estimated Total Burden Cost: $0.

Comments submitted in response to this notice will be summarized and/or included in the request for OMB approval of the information collection request; they will also become a matter of public record.

Dated: March 4, 2008.
Cheryl Atkinson,
Administrator, Office of Workforce Security.

[FR Doc. E8-6890 Filed 4-2-08; 8:45 am]

BILLING CODE 4510-FW-P